DEPARTMENT OF THE INTERIOR

Fish and Wildlife Service

Endangered and Threatened Wildlife and Plants; Draft Recovery Plan for Astragalus holmgreniorum (Holmgren milk-vetch) and Astragalus ampullarioides (Shivwits milk-vetch)

AGENCY: Fish and Wildlife Service, Interior.

ACTION: Notice of document availability for review and comment.

SUMMARY: The U.S. Fish and Wildlife Service (Service) announces availability for public review a draft recovery plan for the Holmgren milk-vetch (Astragalus holmgreniorum) and Shivwits milk-vetch (Astragalus ampullarioides). These species are federally listed as endangered under the Endangered Species Act of 1973, as amended (Act). The Service solicits review and comment from the public on this draft plan.

DATES: Comments on the draft recovery plan must be received on or before August 31, 2006.

ADDRESSES: Copies of the draft recovery plan are available by request from the Utah Field Office, U.S. Fish and Wildlife Service, 2369 West Orton Circle, Suite 50, West Valley City, Utah 84119 (telephone 801-975-3330). Submit comments on the draft recovery plan to the Field Supervisor at this same address. An electronic copy of the draft recovery plan is available at http://endangered.fws.gov/recovery/index.html#plans.

FOR FURTHER INFORMATION CONTACT: Field Supervisor, at the above address, or telephone 801-975-3330.

SUPPLEMENTARY INFORMATION:

Background

Restoring an endangered or threatened animal or plant to the point where it is again a secure, self-sustaining member of its ecosystem is a primary goal of the Service's endangered species program. To help guide the recovery effort, the Service is working to prepare recovery plans for the federally listed species native to the United States where a plan will promote the conservation of the species. Recovery plans describe site-specific actions necessary for the conservation of the species, establish objective, measurable criteria which, when met, would result in a determination that the species no longer needs the protection of the Act (16 U.S.C. 1531 et seq.), and provide estimates of the time and cost for implementing the needed recovery measures.

The Act requires recovery plans for listed species unless such a plan would not promote the conservation of a particular species. Section 4(f) of the Act, as amended in 1988, requires that public notice and opportunity for public review and comment be provided during recovery plan development. The Service will consider all information received during a public comment period when preparing each new or revised recovery plan for approval. The Service and other Federal agencies also will take these comments into consideration in the course of implementing approved recovery plans. It is our policy to request peer review of recovery plans, and we will summarize and respond to the issues raised by the peer reviewers in a determination appendix to the approved recovery plan.

Holmgren milk-vetch and Shivwits milk-vetch are endemic to the Mojave Desert around St. George, Utah. These perennials were listed as endangered in October 2001 (66 FR 49560, September 28, 2001) due to their rarity and declining population trends as well as the threats of urban development, off-road vehicle use, grazing, displacement by invasive plants, and mineral development. Critical habitat was proposed for these species on March 29, 2006 (71 FR 15966). For the purpose of recovery each species comprises six extant populations located in Washington County, Utah, with one Holmgren milk-vetch population extending into Mohave County, Arizona. This also represents the known historic distribution, although it is probable that both species occupied more habitat in the past.

Holmgren milk-vetch occurs at elevations between 756 and 914 meters (2,480 and 2,999 feet) in areas that drain to the Santa Clara and Virgin Rivers. It is typically found on the skirt edges of hill and plateau formations slightly above or at the edge of drainage areas; it occurs on soils characterized by small stone and gravel deposits and where living cover is less than 20 percent of the landscape. Shivwits milk-vetch is found in isolated pockets of Chinle and Moenave soils around St. George. Occupied sites are small, and populations are found between 920 and 1,330 meters (3,018 and 4,363 feet) in elevation in sparsely vegetated habitat with an average 12 percent cover. Shivwits milk-vetch is thinly and discontinuously distributed within its habitat; Shivwits milk-vetch is found in dense patches. Depending on precipitation, Holmgren milk-vetch has variable seedling output followed by a low rate of survivorship, limiting the number of reproductive adults within a population; Shivwits milk-vetch is constrained by the isolation of appropriate soil substrate and limited mechanisms for seed dispersal.

Recovery of Holmgren milk-vetch and Shivwits milk-vetch will hinge on conservation of extant populations and establishment of enough additional populations to ensure long-term demographic and genetic viability. This will require the active involvement of experts and the public as well as a continuing recognition of the role each milk-vetch plays in the ecology of southwestern Utah and, in the case of Holmgren milk-vetch, northwestern Arizona. Because of the biological and historical uncertainties regarding the status and recovery potential of these species, the recovery strategy is necessarily contingent on a growing understanding of the species and their ecological requirements. Consequently, a dynamic and adaptive approach will be key to making effective progress toward full recovery.

Public Comments Solicited

The Service solicits public comments on the draft recovery plan described. All comments received by the date specified will be considered prior to approval of the plan. Written comments and materials regarding the plan should be addressed to the Field Supervisor (see ADDRESSES section). Comments and materials received will be available, by appointment, for public inspection during normal business hours at the above address.

Authority

The authority for this action is section 4(f) of the Endangered Species Act, 16 U.S.C. 1533(f).

Dated: July 5, 2006.
James J. Slack,
Deputy Regional Director, Denver, Colorado.

[FR Doc. E6-12306 Filed 7-31-06; 8:45 am]

BILLING CODE 4310-55-P